DEPARTMENT OF HOMELAND SECURITY

Coast Guard

33 CFR Part 165

[Docket Number USCG-2025-1052]

RIN 1625-AA00

Fixed and Moving Safety Zone; Vicinity of the M/V SAMPOGRACHT; Houston Ship Channel and Seabrook, TX

AGENCY: Coast Guard, Department of Homeland Security.

ACTION: Temporary final rule.

SUMMARY: The Coast Guard is establishing a moving safety zone and a fixed safety zone around the M/V SAMPOGRACHT in the navigable waters of the Houston Ship Channel and its vicinity. The safety zones are needed to protect personnel, vessels, and the marine environment from potential hazards associated with the transfer of rubber tire gantry cranes. Entry of vessels or persons into these zones is prohibited unless specifically authorized by the Captain of the Port Houston-Galveston or a designated representative.

DATES: This rule is effective without actual notice from December 10, 2025 through December 23, 2025. For purposes of enforcement, actual notice will be used from December 6, 2025 through December 10, 2025.

ADDRESSES: To view available documents go to https://www.regulations.gov and search for USCG-2025-1052.

FOR FURTHER INFORMATION CONTACT: If you have questions about this rule, contact ENS Ryan Bowman, Sector Houston-Galveston Waterways Management Division, U.S. Coast Guard; telephone 713-398-5823, or email HoustonWWM@uscg.mil.

SUPPLEMENTARY INFORMATION:

I. Table of Abbreviations

CFR—Code of Federal Regulations

COTP—Captain of the Port

DHS—Department of Homeland Security

FR—Federal Register

NPRM—Notice of proposed rulemaking

§—Section

U.S.C.—United States Code

II. Background and Authority

The Coast Guard received notification that M/V SAMPOGRACHT will be transporting rubber tire gantry cranes to Seabrook, TX. The Captain of the Port Houston-Galveston (COTP) has determined that potential hazards associated with the transfer of rubber tire gantry cranes starting December 6, 2025, will be a safety concern for anyone within a 100-yard radius while the M/V SAMPOGRACHT is in transit and for anyone within 25-yard radius while the M/V SAMPOGRACHT is moored. This rule is needed to protect persons, property, and the marine environment within the navigable waters of the safety zones while the M/V SAMPOGRACHT transits to and unloads in Seabrook, Texas. Therefore, the COTP is issuing this rule under the authority in 46 U.S.C. 70034, which is needed to protect personnel, vessels, and the marine environment in the navigable waters around the safety zones.

The Coast Guard is issuing this rule without prior notice and comment. As is authorized by 5 U.S.C. 553(b)(B), the Coast Guard finds that good cause exists for not publishing a notice of proposed rulemaking (NPRM) with respect to this rule because it is impracticable and contrary to the public interest. The Coast Guard received all relevant information for the transfer of the rubber tire gantry cranes and the need for the safety zone on November 14, but we must establish this safety zone by December 6, 2025, to protect personnel, vessels, and the marine environment. Therefore, we do not have enough time to solicit and respond to comments.

For the same reasons, the Coast Guard finds that under 5 U.S.C. 553(d)(3), good cause exists for making this rule effective less than 30 days after publication in the Federal Register.

III. Discussion of the Rule

This rule establishes two temporary safety zones from 5 a.m. on December 6, 2025 until 4 p.m. on December 23, 2025. The safety zones include a moving safety zone, covering all navigable waters within 100 yards of the M/V SAMPOGRACHT general cargo ship, and a fixed safety zone, covering all navigable waters within 25 yards of M/V SAMPOGRACHT. No vessel or person will be permitted to enter the safety zone without obtaining permission from the COTP or their designated representative.

Moving Safety Zone: This area includes all waters within 100 yards of the M/V SAMPOGRACHT as the vessel transits from the Gulf of Mexico through the Houston Ship Channel. The approximate start position is 29°19′01.21″ N, 094°38′38.1″ W, located in the Gulf of America off the coast of Galveston, Texas.

Fixed Safety Zone: This area includes all waters within 25 yards of the M/V SAMPOGRACHT once the M/V SAMPOGRACHT is moored at Bayport Terminal in Seabrook, Texas, at approximate position 29°36′18.61″ N, 095°0′25.12″ W. The COTP may terminate enforcement of this safety zone prior to December 23, 2025, depending on the progress of the crane offloading operation.

IV. Regulatory Analyses

We developed this rule after considering numerous statutes and Executive orders related to rulemaking. Below we summarize our analyses based on a number of these statutes and Executive orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is a safety zone. It is categorically excluded from further review under paragraph L60(a) of Appendix A, Table 1 of DHS Instruction Manual 023-01-001-01, Rev. 1. A Record of Environmental Consideration supporting this determination is available in the docket.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T08-1052 to read as follows:

§ 165.T08-1052 Fixed and Moving Safety Zone; Vicinity of the M/V SAMPOGRACHT, Houston Ship Channel and Seabrook, TX.

(a) Location. The following areas are safety zones:

(1) Moving Safety Zone: All waters within a 100-yard radius of the M/V SAMPOGRACHT, as the vessel transits from the approximate coordinates 29°19′01.21″ N, 094°38′38.1″ W, off the coast of Galveston, TX, and proceeds through the Houston Ship Channel to the assigned docking station.

(2) Fixed Safety Zone: All waters within a 25-yard radius of the M/V SAMPOGRACHT, while moored, at the Bayport Terminal in Seabrook, Texas.

(b) Definitions. As used in this section, designated representative means a Coast Guard Patrol Commander, including a Coast Guard coxswain, petty officer, or other officer operating a Coast Guard vessel and a Federal, State, and local officer designated by or assisting the Captain of the Port Houston-Galveston (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative on VHF-FM channel 16 or by telephone at (866) 539-8114. Those in the safety zone must comply with all lawful orders or directions given to them by the COTP or the COTP's designated representative.

(d) Enforcement periods. This section will be enforced from 5 a.m. on December 6, 2025, through 4 p.m. on December 23, 2025, unless cancelled earlier by the COTP.

Nicole D. Rodriguez,
Captain, U.S. Coast Guard, Captain of the Port Sector Houston-Galveston.

[FR Doc. 2025-22438 Filed 12-9-25; 8:45 am]

BILLING CODE 9110-04-P